DEPARTMENT OF COMMERCE

Foreign-Trade Zones Board

[B-3-2025]

Foreign-Trade Zone (FTZ) 41, Notification of Proposed Production Activity; Zebra Technologies Corporation; (Computer Printing Products); Kenosha, Wisconsin

Zebra Technologies Corporation submitted a notification of proposed production activity to the FTZ Board (the Board) for its facility in Kenosha, Wisconsin within FTZ 41. The notification conforming to the requirements of the Board's regulations (15 CFR 400.22) was received on January 13, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: self-adhesive nameplates, labels, and sheets; plastic mounting components; cellular rubber articles; vulcanized rubber articles; paper packing material; rolls of labels; stylus tethers; straps; steel screws; steel wire springs; metal clips; AC power filter release instrument kits; cable routing tool kits; PCB removal took kits and print head cam sync gauge kits; castors; mounting brackets; thermal printers; thermal printer replacement components; tablets and mobile computers; data capturing and transmitting devices; point-of-sale parts; power supply adapters, cradles, and chargers; lithium-ion batteries; smartphones; data capturing and transmitting devices; location solution products; antennas; magnetic media cards; optical media cards; semiconductor media cards; monitors; real-time locating systems, components of location solution devices; cables with connectors/fittings used for telecommunication devices; cords and power cables; fixed mount industrial scanners; and fixed mount industrial scanner components (duty rate ranges from duty-free to 7.0%).

The proposed foreign-status materials/components include: plastic labels in roll; plastic labels in sheet; plastic end cap parts; plastic with textile labels; plastic bags; plastic caps/plugs/closures; plastic gaskets/seals/washers; plastic name plates, labels, mounts, straps, and ties; rubber gaskets and washer grommets; rubber grommets; corrugated boxes, printed paper labels; self-adhesive paper labels; paper core rolls for labels; paper packing spacers, pads, and inserts; single sheet instructions/manuals; instructions/manuals; instruction/manuals/brochures; stylus tethers; touchpad hand carrying straps and belt loops; lens filters; machine steel screws; steel screws with a diameter less than 6 millimeters; steel screws with a diameter greater than 6 millimeters; steel nuts; steel spring lock washers; flat steel washers; steel rivets; steel cotter pins; steel helical spring; steel extension spring; steel threaded standoff; aluminum belt tensioning device; hex key hand tools; AC power filter release tool kits; phone camera sync devices; maghead insertion cable devices; mirror mount brackets; metal brackets; thermal printers; printer heads; feeder roller; main PCB board; mobile computers and tablets; docking stations; barcode scanners, imagers, and scan engines; point of sale terminals; outer housing; display assembly; ball bearings; clutches, shafts couplings, and joints; chargers; charger parts; battery cells; lithium-ion batteries; cellphone devices; mobile computing devices; data transmitting devices; RFID antennas; aerial reflectors; CD-rom media; smart card media; wet inlay tags; digital cameras; real-time location tags; radio antennas for mobile devices; mobile computing device parts; main PCB board assembly and outer housing; coaxial connectors; mobile computing device touch panel PCB; LED lights; paper-low sensor kits; cables for telecommunication devices; detachable power cables; flex cables (less than 80 volts); feedkey and flex cables for printers; ferrite; spectrometers; industrial fixed mount machine vision devices; printer ribbon high/low torque devices; and flipper deck level devices (duty rate ranges from duty-free to 4.5%). The request indicates that certain materials/components are subject to duties under section 301 of the Trade Act of 1974 (section 301), depending on the country of origin. The applicable section 301 decisions require subject merchandise to be admitted to FTZs in privileged foreign status (19 CFR 146.41). The Board's regulations (15 CFR 400.13(c)(2)) require that merchandise subject to AD/CVD orders, or items which would be otherwise subject to suspension of liquidation under AD/CVD procedures if they entered U.S. customs territory, be admitted to the zone in privileged foreign status (19 CFR 146.41).

Public comment is invited from interested parties. Submissions shall be addressed to the Board's Executive Secretary and sent to: ftz@trade.gov. The closing period for their receipt is March 4, 2025.

A copy of the notification will be available for public inspection in the “Online FTZ Information System” section of the Board's website.

For further information, contact Kolade Osho at Kolade.Osho@trade.gov.

Dated: January 17, 2025.
Elizabeth Whiteman,
Executive Secretary.

[FR Doc. 2025-01585 Filed 1-22-25; 8:45 am]

BILLING CODE 3510-DS-P